ENVIRONMENTAL PROTECTION AGENCY

[EPA-R03-OAR-2018-0215; FRL-9981-71—Region 3]

Adequacy Status of Motor Vehicle Emission Budgets in Submitted State Implementation Plan for Transportation Conformity Purposes; District of Columbia, Maryland, and Virginia; Washington, DC-MD-VA 2008 8-Hour Ozone National Ambient Air Quality Standard Nonattainment Area Maintenance Plan 2014, 2025, and 2030 Motor Vehicle Emissions Budgets for Nitrogen Oxides and Volatile Organic Compounds

AGENCY: Environmental Protection Agency (EPA).

ACTION: Notice of adequacy.

SUMMARY: In this document, the Environmental Protection Agency (EPA or Agency) is notifying the public that the Agency has found that the 2014, 2025, and 2030 motor vehicle emissions budgets (MVEBs) for the ozone precursors nitrogen oxides (NOX) and volatile organic compounds (VOC) contained in the maintenance plan for the Washington, DC-MD-VA 2008 ozone national ambient air quality standards (NAAQS) nonattainment area (hereafter “the Washington Area” or “the Area”) are adequate for conformity purposes. As a result of EPA's finding, the Washington Area must use the NOX and VOC MVEBs from the submitted maintenance plan for the Washington Area in future conformity determinations.

DATES: This finding is effective August 21, 2018.

FOR FURTHER INFORMATION CONTACT: Sara Calcinore, (215) 814-2043, or by email at calcinore.sara@epa.gov.

SUPPLEMENTARY INFORMATION:

On March 12, 2018, January 29, 2018, and January 3, 2018, the District of Columbia (the District), State of Maryland (Maryland), and Commonwealth of Virginia (Virginia), respectively, formally submitted, as revisions to their SIPs, a maintenance plan for the Washington Area. The maintenance plan includes NOX and VOC MVEBs for the Washington Area for the years 2014 (the attainment year), 2025, and 2030. Under 40 CFR part 93, a MVEB for an area seeking redesignation to attainment must be established, at minimum, for the last year of the maintenance plan. A state may adopt MVEBs for other years as well. The MVEBs are the amount of emissions allowed in the SIP for on-road motor vehicles and establishes an emissions ceiling for the regional transportation network. The most recently approved MVEBs for the Washington Area originate from the attainment plan for the 1997 ozone NAAQS, which EPA found adequate on February 7, 2013 (78 FR 9044). The maintenance plan includes two sets of NOX and VOC MVEBs, shown in Table 1 and Table 2. The MVEBs shown in Table 1 will be the applicable motor vehicle emissions budgets after the adequacy findings are effective. The MVEBs shown in Table 2 add a twenty percent (20%) transportation buffer to the mobile emissions inventory projections for NOX and VOC in 2025 and 2030. The MVEBs shown in Table 2 that include a transportation buffer will be used only as needed in situations where the conformity analysis must be based on different data, models, or planning assumptions, including, but not limited to, updates to demographic, land use, or project-related assumptions, than were used to create the first set of MVEBs in the maintenance plan (Table 1). The technical analyses used to demonstrate compliance with the MVEBs and the need, if any, to use transportation buffers will be fully documented in the conformity analysis and follow the Transportation Planning Board's (TPB) interagency consultation procedures.

Table 1—Washington, DC-MD-VA Maintenance Plan On-Road MVEBs
Year | MVEBs for NOX on-road emissions (tons per day) | MVEBs for VOC on-road emissions (tons per day)
2014 (Attainment Year) | 136.8 | 61.3
2025 | 40.7 | 33.2
2030 | 27.4 | 24.1

Table 2—Washington, DC-MD-VA Maintenance Plan On-Road MVEBs With Transportation Buffers
Year | MVEBs for NOX on-road emissions (tons per day) | MVEBs for VOC on-road emissions (tons per day)
2014 (Attainment Year) | 136.8 | 61.3
2025 | 48.8 | 39.8
2030 | 32.9 | 28.9

On May 21, 2018, EPA posted the availability of the 2014, 2025, and 2030 NOX and VOC MVEBs for the Washington Area on EPA's website for the purpose of soliciting public comments as part of the adequacy process. The comment period closed on June 20, 2018 and EPA received no comments.

This document is simply an announcement of a finding that we have already made. EPA Region III sent letters to the District of Columbia Department of Energy and Environment (DOEE), Maryland Department of the Environment (DOE), and the Virginia Department of Environmental Quality (DEQ) on July 24, 2018 finding that the 2014, 2025, and 2030 NOX and VOC MVEBs in the maintenance plan for the Washington Area submitted by the District, Maryland, and Virginia on March 12, 2018, January 29, 2018, and January 3, 2018, respectively, are adequate and must be used for transportation conformity determinations in the Washington Area.¹ The finding and associated letters are available at EPA's conformity website: https://www.epa.gov/state-and-local-transportation.

¹ EPA originally informed the District, Maryland, and Virginia that the 2014, 2025, and 2030 MVEBs were adequate for use in transportation conformity analyses in letters dated July 18, 2018. EPA revised language in these letters and sent the revised letters to the District, Maryland, and Virginia on July 24, 2018. The original and revised letters are available online at http://www.regulations.gov as well as EPA's conformity website: https://www.epa.gov/state-and-local-transportation.

Transportation conformity is required by Clean Air Act (CAA) section 176(c). EPA's conformity rule requires that transportation plans, transportation improvement programs, and projects conform to state air quality implementation plans (SIPs) and establishes the criteria and procedures for determining whether or not they do. Conformity to a SIP means that transportation activities will not produce new air quality violations, worsen existing violations, or delay timely attainment of the NAAQS.

The criteria by which we determine whether a SIP's MVEBs are adequate for conformity purposes are outlined in 40 CFR 93.118(e)(4). We've described our process for determining the adequacy of submitted SIP budgets in our July 1, 2004 preamble starting at 69 FR 40038, and we used the information in these resources in making our adequacy determination. Please note that an adequacy review is separate from EPA's completeness review and should not be used to prejudge EPA's ultimate approval action for the SIP. Even if we find a budget adequate, the SIP could later be disapproved.

The finding for the 2014, 2025, and 2030 NOX and VOC MVEBs contained in the maintenance plan for the Washington Area and the response to comments are available at EPA's conformity website: https://www.epa.gov/state-and-local-transportation.

Authority: 42 U.S.C. 7401-7671q.

Dated: July 24, 2018.
Cosmo Servidio,
Regional Administrator, Region III.

[FR Doc. 2018-16777 Filed 8-3-18; 8:45 am]

BILLING CODE 6560-50-P